ARCTIC RESEARCH COMMISSION

Sunshine Act Notice

July 28, 2003

Meeting notice in Federal Register of 29th July is corrected to read: Notice is hereby given that the U.S. Arctic Research Commission will hold its 69th Meeting in Dutch Harbor, Alaska on August 4th thru 5th and continue in Anchorage, Alaska on August 6th, 2003. The Business Session open to the public will convene at 9 a.m. Monday, August 4th. The Agenda items include:

(1) Call to order and approval of the Agenda.

(2) Approval of the Minutes of the 68th Meeting.

(3) Reports from Congressional Liaisons.

(4) Agency Reports.

The focus of the Meeting will be reports and updates on programs and research projects affecting the U.S. Arctic. Presentations include a review of the research needs for civil infrastructure in Alaska.

The Business Session will reconvene at 9 a.m. Wednesday, August 6th, 2003 in Anchorage, Alaska. An Executive Session will follow adjournment of the Business Session.

Any person planning to attend this meeting who requires special accessibility features and/or auxiliary aids, such as sign language interpreters, must inform the Commission in advance of those needs.

Contact Person for More Information: Dr. Garrett W. Brass, Executive Director, Arctic Research Commission, 703-525-0111 or TDD 703-306-0090.

Garrett W. Brass,
Executive Director.

[FR Doc. 03-19512 Filed 7-28-03; 1:36 pm]

BILLING CODE 7555-01-M